EXPORT-IMPORT BANK

[Public Notice: 2024-3018]

Agency Information Collection Activities: Submission to the Office of Management and Budget for Review and Approval; Comment Request; EIB 11-04 Export-Import Bank Co-Financing With Foreign Export Credit Agency

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal agencies to comment on the proposed information collection, as required by the paperwork Reduction Act of 1995.

DATES: Comments must be received on or before September 16, 2024 to be assured of consideration.

ADDRESSES: Comments may be submitted electronically on www.regulations.gov (EIB 11-04), or by mail to Office of Information and Regulatory Affairs, 725 17th Street NW Washington, DC 20038 Attn: OMB 3048-0037.

FOR FURTHER INFORMATION CONTACT: To request additional information, please contact Donna Schneider, donna.schneider@exim.gov, 202-565-3612.

SUPPLEMENTARY INFORMATION: This form will enable EXIM to identify the specific details of the proposed co-financing transaction between a U.S. exporter, EXIM, and a foreign export credit agency; the information collected includes vital facts such as the amount of U.S.-made content in the export, the amount of financing requested from EXIM, and the proposed financing amount from the foreign export credit agency. These details are necessary for approving this unique transaction structure and coordinating our support with that of the foreign export credit agency to ultimately complete the transaction and support U.S. exports—and U.S. jobs.

The application tool can be reviewed at: https://img.exim.gov/s3fs-public/pub/pending/eib11-04.pdf.

Title and Form Number: EIB 11-04, Co-financing with Foreign Export Credit Agency.

OMB Number: 3048-0037.

Type of Review: Regular.

Need and Use: The information collected will provide information needed to determine compliance and creditworthiness for transaction requests submitted to the Export Import Bank under its insurance, guarantee, and direct loan programs.

Affected Public: This form affects entities involved in the export of U.S. goods and services.

Annual Number of Respondents: 75.

Estimated Time per Respondent: 15 minutes.

Annual Burden Hours: 18.75 hours.

Frequency of Reporting or Use: As needed.

Dated: August 13, 2024.
Andrew Smith,
Records Officer.

[FR Doc. 2024-18432 Filed 8-15-24; 8:45 am]

BILLING CODE 6690-01-P